DEPARTMENT OF ENERGY

Federal Energy Regulatory Commission

[Docket No. RP02-242-000]

Discovery Gas Transmission LLC; Notice of Cash-Out Report

May 3, 2002.

Take notice that on April 30, 2002, Discovery Gas Transmission LLC (Discovery) filed with the Commission its annual cash-out report for the calendar year ended December 31, 2001.

Discovery states that the cash-out report reflects an estimated cumulative gain from cash-out transactions. However Discovery has requested that a waiver of section 9.9 of its tariff permit it to use the balance of the cash-out account to make necessary gas purchases. Discovery states that any remaining funds will be refunded in the subsequent reporting period.

Discovery states that copies of this filing are being mailed to its customers, state commissions and other interested parties.

Any person desiring to be heard or to protest said filing should file a motion to intervene or a protest with the Federal Energy Regulatory Commission, 888 First Street, NE., Washington, DC 20426, in accordance with Sections 385.214 or 385.211 of the Commission's Rules and Regulations. All such motions or protests must be filed on or before May 10, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11602 Filed 5-8-02; 8:45 am]

BILLING CODE 6717-01-P